DEPARTMENT OF TRANSPORTATION

Federal Motor Carrier Safety Administration

[Docket No. 2015-0124]

Potential Benefits and Feasibility of Voluntary Compliance; Public Listening Sessions

AGENCY: Federal Motor Carrier Safety Administration (FMCSA), DOT.

ACTION: Notice of public listening sessions.

SUMMARY: The FMCSA announces that it will hold two public listening sessions, on January 12 and 31, 2016, to solicit information on the potential benefits and feasibility of voluntary compliance and ways to credit carriers and drivers who initiate and establish programs that promote safety beyond the standards established in FMCSA regulations. The recently enacted Fixing America's Surface Transportation (FAST) Act mandates that the FMCSA Administrator allow recognition for a motor carrier that installs advanced safety equipment, enhanced driver fitness measures, fleet safety management tools, technologies, and programs and other standards for use by motor carriers to receive recognition, including credit or an improved Safety Measurement System (SMS) percentile. FMCSA is soliciting comment to develop a process for identifying and reviewing these opportunities to provide credit to those carriers and drivers who go above and beyond the regulatory requirements. The listening sessions are intended to provide interested parties with an opportunity to share their views on this topic with Agency representatives, along with any data or analysis they may have. All comments will be transcribed and placed in the docket referenced above for FMCSA's consideration. The entire proceedings of both meetings will be webcast.

DATES: The listening sessions will be held on Tuesday, January 12, 2016, from 9:30 a.m. to 11:30 a.m. and 2:30 p.m. to 4:30 p.m., Local Time, and on Sunday, January 31, 2016, from 2:00 p.m. to 4:00 p.m., Local Time. If all interested parties have had the opportunity to comment, the sessions may conclude early.

ADDRESSES: The January 12 listening session will be held at the Kentucky International Convention Center, Room 108, 221 Fourth St., Louisville, KY 40202. The January 31 session will be held at the Georgia World Congress Center, Building C, 285 Andrew Young International Blvd. NW., Atlanta, GA. In addition to attending the session in person, the Agency offers several ways to provide comments, as enumerated below.

Internet Address for Live Webcast. FMCSA will post specific information on how to participate via the Internet on the FMCSA Web site at www.fmcsa.dot.gov in advance of the listening session.

You may submit comments identified by Docket Number FMCSA-2015-0124 using any of the following methods:

• Federal eRulemaking Portal: http://www.regulations.gov. Follow the online instructions for submitting comments.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., Washington, DC, between 9 a.m. and 5 p.m., Monday through Friday, except Federal holidays.

• Fax: 202-493-2251.

Each submission must include the Agency name and the docket number for this notice. Note that DOT posts all comments received, without change, to www.regulations.gov, including any personal information included in a comment. Please see the Privacy Act heading below. To avoid duplication, please use only one of these four methods. See the “Public Participation and Request for Comments” portion of the SUPPLEMENTARY INFORMATION section for instructions on submitting comments.

Docket: For access to the docket to read background documents or comments, go to www.regulations.gov at any time or visit Room W12-140 on the ground level of the West Building, 1200 New Jersey Avenue SE., Washington, DC, between 9 a.m. and 5 p.m., ET, Monday through Friday, except Federal holidays. The online Federal document management system is available 24 hours each day, 365 days each year. If you would like acknowledgment that the Agency received your comments, please include a self-addressed, stamped envelope or postcard or print the acknowledgment page that appears after submitting comments on-line.

FOR FURTHER INFORMATION CONTACT: Ms. Shannon L. Watson, Senior Policy Advisor, Federal Motor Carrier Safety Administration, 1200 New Jersey Avenue SE., Washington, DC 20590 or by telephone at 202-366-2551.

If you need sign language interpretation or any other accessibility accommodation, please contact Ms. Watson by Monday, January 4, 2016, to allow us to arrange for such services. FMCSA cannot guarantee that interpreter services requested on short notice will be provided.

SUPPLEMENTARY INFORMATION:

Submitting Comments

If you submit a comment, please include the docket number for this notice (FMCSA-2015-0124), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2015-0124, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

We will consider all comments and material received during the comment period and may draft a notice of proposed rulemaking based on your comments and other information and analysis.

Viewing Comments and Documents

To view comments, as well as any documents mentioned in this preamble as being available in the docket, go to http://www.regulations.gov. Insert the docket number, FMCSA-2015-0124, in the keyword box, and click “Search.” Next, click the “Open Docket Folder” button and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

I. Background

The trucking and bus industries and the U.S. Department of Transportation have invested in the research, development, and testing of strategies and technologies to reduce truck and bus crashes. In September 2014, the Commercial Vehicle Safety Alliance (CVSA) submitted a request to FMCSA to consider initiating a pilot program to investigate the benefits and feasibility of a voluntary compliance program. Citing research that has been underway for several years, the Agency established an Alternative Compliance team in December 2014, the goal of which was to analyze the concept and gather data to support how it might be developed and implemented.

On March 30-31, 2015, the Agency's Motor Carrier Safety Advisory Committee (MCSAC) deliberated on the potential benefits and feasibility of a voluntary compliance program and ways to credit carriers and drivers who initiate and establish programs that promote safety beyond FMCSA's regulations. The MCSAC completed its deliberations during its June 15-16, 2015, meeting and subsequently submitted its final report on Task 15-1 to the Agency on September 21, 2015. A copy of the report is posted at the MCSAC's Web site, http://mcsac.fmcsa.dot.gov/meeting.htm.

On April 23, 2015 (80 FR 22770), the Agency published a notice requesting responses to specific questions and any supporting data the Agency should consider in the potential development of a Beyond Compliance program.¹ The notice indicated that Beyond Compliance would include voluntary programs implemented by motor carriers that exceed regulatory requirements and improve the safety of commercial motor vehicles and drivers operating on the Nations' roadways by reducing the number and severity of crashes. Beyond Compliance would not result in regulatory relief.

¹ See https://www.gpo.gov/fdsys/pkg/FR-2015-04-23/pdf/201509463.pdf or https://www.fmcsa.dot.gov/regulations/notices/201509463.

Section 5222 of the recently enacted the Fixing America's Surface Transportation Act (Pub. L. 114-94, Dec. 4, 2015, 129 Stat. 1312) (FAST) mandates that the FMCSA Administrator allow recognition for a motor carrier that installs advanced safety equipment, enhanced driver fitness measures, fleet safety management tools, technologies, and programs and other standards for use by motor carriers to receive recognition, including credit or an improved SMS percentile. This provision requires the Administrator, after providing notice and comment, to develop a process for identifying and reviewing these opportunities to provide credit to those carriers and drivers who go above and beyond the regulatory requirements.

The January 12, 2016, session will be held at the American Bus Association's (ABA) Marketplace conference in Louisville, Kentucky. The January 31, 2016, session will be held at the United Motorcoach Association (UMA) Expo 2016 conference in Atlanta, Georgia.

All comments will be transcribed and placed in the docket referenced above for FMCSA's consideration. The entire proceedings of both meetings will be webcast.

II. Meeting Participation and Information FMCSA Seeks From the Public

The listening session is open to the public. Speakers should try to limit their remarks to 3-5 minutes. No preregistration is required. Attendees may submit material to the FMCSA staff at the session for inclusion in the pubic docket referenced at the beginning of this notice.

FMCSA would like to know the views of the public on the concept, with any data or analysis to support it, with regard to 3 basic areas:

(1) What voluntary technologies or safety program best practices would be appropriate for beyond compliance; (2) what type of incentives would encourage motor carriers to invest in technologies and best practices programs; and (3) how FMCSA would verify that the voluntary technologies or safety programs are being implemented.

FMCSA will docket the transcripts of the webcast and a separate transcription of each listening session will be prepared by an official court reporter.

Dated: December 18, 2015.
Larry W. Minor,
Associate Administrator for Policy.

[FR Doc. 2015-32358 Filed 12-23-15; 8:45 am]

BILLING CODE 4910-EX-P